DEPARTMENT OF TRANSPORTATION

National Highway Traffic Safety Administration

[Docket No. NHTSA 2006-24707; Notice 2]

Pilkington Glass of Canada Ltd., Grant of Petition for Decision of Inconsequential Noncompliance

Pilkington Glass of Canada Ltd. (Pilkington) has determined that certain aftermarket windshields that it manufactured in 2005 and 2006 do not comply with S6.2 and S6.3 of 49 CFR 571.205, Federal Motor Vehicle Safety Standard (FMVSS) No. 205, “Glazing Materials.” Pursuant to 49 U.S.C. 30118(d) and 30120(h), Pilkington has petitioned for a determination that this noncompliance is inconsequential to motor vehicle safety and has filed an appropriate report pursuant to 49 CFR part 573, “Defect and Noncompliance Reports.” Notice of receipt of a petition was published, with a 30-day comment period, on May 19, 2006, in the Federal Register (71 FR 29214). NHTSA received no comments.

Affected are a total of approximately 760 aftermarket number GW1549GBY windshields manufactured between September 9, 2005 and March 31, 2006. Pilkington explains that the exact number of noncompliant windshields is unknown, but that 8.1 percent of the windshields that remain in the company's possession are noncompliant, and applying that percentage to the 9,383 windshields that have been distributed produces a result of approximately 760 windshields. S6.2 and S6.3 of FMVSS No. 205 require that each windshield be marked with certain information including a manufacturer's model number and manufacturer's code mark. The affected windshields are marked with either an illegible model number or an illegible manufacturer's code. Pilkington has corrected the problem that caused these errors so that they will not be repeated in future production.

Pilkington believes that the noncompliance is inconsequential to motor vehicle safety and that no corrective action is warranted. The petitioner states that the windshields are clearly inscribed “Pilkington” and “Made in Canada,” which would allow a distributor or consumer to clearly identify the manufacturer. Pilkington further states that consumers do not need the illegible information to operate their vehicles safely, and “repair shops typically do not use the model number in deciding upon the size or model of the replacement glass. Instead, [they] generally use various manuals and web sites * * * such as * * * National Auto Glass Specifications.” Pilkington also states that it has taken action to prevent additional sales of these windshields by notifying wholesalers and distributors to return windshields with the noncompliant markings.

NHTSA agrees with Pilkington that the noncompliance is inconsequential to motor vehicle safety. The manufacturer can be identified by the words “Pilkington” and “Made in Canada,” which are inscribed on the windshield. To identify the proper replacement glass, a repair facility would presumably follow the typical practice of using references such as the National Auto Glass Specifications web site and manuals. Therefore this noncompliance does not present a safety problem in terms of replacement or recall. The windshields meet all other FMVSS requirements.

In consideration of the foregoing, NHTSA has decided that the petitioner has met its burden of persuasion that the noncompliance described is inconsequential to motor vehicle safety. Accordingly, Pilkington's petition is granted and the petitioner is exempted from the obligation of providing notification of, and a remedy for, the noncompliance.

Authority: (49 U.S.C. 30118, 30120; delegations of authority at CFR 1.50 and 501.8)

Issued on July 5, 2006.
Daniel C. Smith,
Associate Administrator for Enforcement.

[FR Doc. E6-10763 Filed 7-10-06; 8:45 am]

BILLING CODE 4910-59-P